DEPARTMENT OF VETERANS AFFAIRS

Advisory Committee on Disability Compensation, Notice of Meeting

The Department of Veterans Affairs (VA) gives notice under the Federal Advisory Committee Act, 5 U.S.C. Ch. 10, that the Advisory Committee on Disability Compensation (Committee) will hold virtual meeting sessions on Thursday, September 4, 2025, and Friday, September 5, 2025. The meeting session will begin, and end as follows:

Date | Time
Thursday, September 4, 2025 | 10:00 a.m. to 2:00 p.m. Eastern Standard Time (EST).
Friday, September 5, 2025 | 10:00 a.m. to 2:00 p.m. EST.

The meeting sessions are open to the public.

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the rating schedule, and give advice on the most appropriate means of responding to the needs of Veterans relating to disability compensation.

On Thursday, September 4, 2025 and Friday, September 5, 2025, the agenda will include a Public Contact Modernization presentation, updates on the Homeless Veterans Outreach Program, and briefings from various staff on ongoing VA initiatives and priorities.

In addition, on Thursday, September 4, 2025, the public comment period will be open for 30-minutes from 1:20 p.m. to 1:50 p.m. EST. The comment period may end sooner, if there are no comments presented or they are exhausted before the end time. The public can also submit one-page summaries of their written statements for the Committee's review. Public comments may be received no later than Monday, August 25, 2025, for inclusion in the official meeting record. Please send these comments to Jadine Piper of the Veterans Benefits Administration, Compensation Service, at 21C_ACDC.VBACO@va.gov.

Members of the public who wish to obtain a copy of the agenda should contact Jadine Piper at 21C_ACDC.VBACO@va.gov, and provide their name, professional affiliation, email address and phone number. The call-in number for those who would like to attend the meeting is: 872-701-0185; phone conference ID: 887 357 020#. Members of the public may also access the meeting by pasting the following URL into a web browser: https://bit.ly/ACDC-Sept-4-5-2025.

Dated: July 8, 2025.
Taylor N. Mattson,
Alternate Federal Register Liaison Officer.

[FR Doc. 2025-12993 Filed 7-10-25; 8:45 am]

BILLING CODE 8320-01-P